SECURITIES AND EXCHANGE COMMISSION

[SEC File No. 270-396, OMB Control No. 3235-0452]

Submission for OMB Review; Comment Request; Extension: Notice of Exempt Preliminary Roll-Up Communication

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Rule 14a-6(n) [17 CFR 240.14a-6(n)] under the Securities Exchange Act of 1934 (“Exchange Act”) (U.S.C. 78a et seq.) requires any person that engages in a proxy solicitation is subject to Exchange Act Rule 14a-2(b)(4) [17 CFR 240.14a-2(b)(4)] to file a Notice of Exempt Preliminary Roll-Up Communication (“Notice”) [17 CFR 240.14a-104] with the Commission. The Notice provides information regarding ownership interest and any potential conflicts of interest to be included in statements submitted by or on behalf of a person engaging in the solicitation. The Notice is filed on occasion and the information required is mandatory. All information is provided to the public upon request. We estimate the Notice takes approximately 0.25 hours per response and is filed by approximately 4 respondents for a total of one annual burden hour (0.25 hours per response × 4 responses).

An agency may conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by February 27, 2023 to (i) www.reginfo.gov/public/do/PRAMain and (ii) David Bottom, Director/Chief Information Officer, Securities and Exchange Commission, c/o John Pezzullo, 100 F Street NE, Washington, DC 20549, or by sending an email to: PRA_Mailbox@sec.gov.

Dated: January 23, 2023.
Sherry R. Haywood,
Assistant Secretary.

[FR Doc. 2023-01615 Filed 1-26-23; 8:45 am]

BILLING CODE 8011-01-P